DEPARTMENT OF THE INTERIOR

National Park Service

National Register of Historic Places; Notification of Pending Nominations

Nominations for the following properties being considered for listing in the National Register were received by the National Park Service before June 24, 2000. Pursuant to section 60.13 of 36 CFR part 60 written comments concerning the significance of these properties under the National Register criteria for evaluation may be forwarded to the National Register, National Park Service, 1849 C St. NW, NC400, Washington, DC 20240. Written comments should be submitted by July 18, 2000.

Carol D. Shull,
Keeper of the National Register.

Arizona

Yavapai County

Toltec Lodge,

228 High St.,

Prescott, 00000812

Arkansas

Pulaski County

Capitol View Neighborhood Historic District,

Roughly bounded by Riverview Dr., Schiller St., W. 7th St. and Woodrow St.

Little Rock, 00000813

Colorado

Larimer County

Mountainside Lodge,

2515 Tunnel Rd.,

Estes Park, 00000814

Connecticut

Litchfield County

Bridgewater Center Historic District,

Roughly along Main St., Warner Rd., Clapboard Rd. and Hat Shop Hill,

Bridgewater, 00000816

New Haven County

Pine Orchard Union Chapel,

25 Chapel Dr.,

Branford, 00000815

New London County

Perkins—Bill House,

1040 Long Cove Rd.,

Gales Ferry, 00000817

Minnesota

Goodhue County

Florence Town Hall,

33923 MN 61 Blvd.,

Florence Township, 00000818

Missouri

Cape Girardeau County

Cape Girardeau Commercial Historic District,

(Cape Girardeau, Missouri MPS)

100 Blk. of N. Main St. and 100 Blk. of Broadway,

Cape Girardeau, 00000820

Haarig Commercial Historic District,

(Cape Girardeau, Missouri MPS)

Along sections of the 600 Blk. of Good Hope St. and 300 Blk. of S. Sprigg St.,

Cape Girardeau, 00000819

Nevada

Lander County

Lander County High School,

130 Sixth St.,

Austin, 00000821

New York

Oneida County

Memorial Church of the Holy Cross,

841 Bleecker St.,

Utica, 00000823

Ulster County

Ashokan—Turnwood Covered Bridge,

477 Beaverkill Rd.,

Oliverbridge, 00000822

North Carolina

Chatham County

North Third Avenue Historic District,

Roughly bounded by N. Second Ave., E. Fourth St., N. Third Ave., and E. Third St.,

Siler City, 00000824

Rowan County

Salisbury Historic District (Boundary Increase),

Portions of E. Council, E. Innes, Lee and E. Liberty Sts. bet. Main and Depot Sts.,

Salisbury, 00000826

Transylvania County

Hanckel—Barclay House (Boundary Increase),

8 mi. W of Jct. NC 1114 and US 276,

Brevard, 00000825

South Dakota

Minnehaha County

Gloria House, The,

1216 S. Center Ave.,

Sioux Falls, 00000828

Split Rock Creek Park Historic District,

Roughly 1 mi. N of Garretson in Split Rock Park,

Garretson, 00000827

Vermont

Addison County

Union Church, Jct. of River Rd. and East St.,

New Haven, 00000829

Orleans County

House at 68 Highland Avenue,

68 Highland Ave.,

Newport, 00000831

Windsor County

Smith, Samuel Gilbert, Farmstead,

(Agricultural Resources of Vermont MPS)

375 Orchard St.,

Brattleboro, 00000830

A request for a move has been made for the following resource

Arkansas

Pulaski County

Compton-Wood House 800 High St.

Little Rock, 80000781

A request for removal has been made for the following resources:

Arkansas

Benton County

Sunset Hotel

(Benton County MRA)

US 71

Bella Vista, 92000986

Franklin County

Cabins, The

W of Ozark on AR 219

Ozark vicinity, 77000253

Jackson County

Hickory Grove Church and School

N of Jacksonport

Jacksonport vicinity, 78000595

Pulaski County

Pulaski County Road 67D Bridge

(Historic Bridges of Arkansas MPS)

Co. Rd. 67D over Bridge Cr.

Jacksonville, 95000651

[FR Doc. 00-16782 Filed 6-30-00; 8:45 am]

BILLING CODE 4310-70-P